DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 04-010. Applicant: Cornell University, 123 Day Hall, Ithaca, NY 14853. Instrument: X-ray Double Crystal Monochrometer. Manufacturer: Kohzu Precision Co., Ltd., Japan. Intended Use: The instrument is intended to be used by a group of universities to study the molecular structure of macro-molecules of importance in the life sciences including proteins, viruses, enzymes and other related entities by the scattering of monoenergetic x-rays from single crystals of these materials utilizing the intense beams of x-rays provided by the Advanced Photon Source at Argonne National Laboratory. Application accepted by Commissioner of Customs: May 7, 2004.

Docket Number: 04-011. Applicant: Catawba College, 22300 W. Innes Street, Salisbury, NC 28144. Instrument: Transmission Electron Microscope, Model Jem-1011. Manufacturer: JEOL, Japan. Intended Use: The instrument is intended to be used in teaching the techniques and procedures of biological specimen fixation, embedding, sectioning, staining, examination and analysis. It will be used in a course on electron microscopy and in a seminar on biological research. Application accepted by Commissioner of Customs: May 19, 2004.

Docket Number: 04-012. Applicant: University of California, Los Angeles, Department of Physics and Astronomy, 475 Portola Plaza, Los Angeles, CA 90095-1547. Instrument: Dual Beam Electron Microscope/Focused Ion Beam Milling Machine, Model Nova 600 Nanolab. Manufacturer: FEI Company, the Netherlands. Intended Uses: The instrument is intended to be used:

1. To develop and fine-tune nanometer scale mechanical sensors by standard micro-fabrication processes

2. Machining of probes to study the shape dependence of the cantilever spring constant and to achieve the sharpest tip

3. To achieve subatomic scale resolution with an AFM using the sensors developed. Application accepted by Commissioner of Customs: June 3, 2004.

Docket Number: 04-013. Applicant: Cornell University, 123 Day Hall, Ithaca, NY 14853. Instrument: X-ray Focusing Mirror System, Model Ne Cat. Manufacturer: Oxford-Danfysik, United Kingdom. Intended Use: The instrument is intended to be used by a group of universities to study the molecular structure of macro-molecules of importance in the life sciences including proteins, viruses, enzymes and other related entities by the scattering of monoenergetic x-rays from single crystals of these materials utilizing the intense beams of x-rays provided by the Advanced Photon Source at Argonne National Laboratory. The mirror system is needed to focus the intense x-ray beam from the Advanced Photon Source onto millimeter size crystals.

Application accepted by Commissioner of Customs: June 3, 2004.

Gerald A. Zerdy,
Program Manager, Statutory Import Programs Staff.

[FR Doc. 04-13989 Filed 6-21-04; 8:45 am]

BILLING CODE 3510-DS-P